DEPARTMENT OF TRANSPORTATION

Federal Aviation Administration

[Proposed Policy Statement No. ANE-2002-35.15-R0]

Policy for Propeller Safety Analysis

AGENCY: Federal Aviation Administration, DOT.

ACTION: Notice of proposed policy statement; request for comments.

SUMMARY: The Federal Aviation Administration (FAA) announces the availability of proposed policy for propeller safety analysis.

DATES: Comments must be received by January 20, 2003.

ADDRESSES: Send all comments on the proposed policy to the individual identified under FOR FURTHER INFORMATION CONTACT.

FOR FURTHER INFORMATION CONTACT: Jay Turnberg, FAA, Engine and Propeller Standards Staff, ANE-110, 12 New England Executive Park, Burlington, MA 01803; e-mail: jay.turnberg@faa.gov; telephone: (781) 238-7116; fax: (781) 238-7199.

SUPPLEMENTARY INFORMATION:

Comments Invited

The proposed policy statement is available on the Internet at the following address: http//www/airweb/faa/gov/rgl. If you do not have access to the Internet, you may request a copy by contacting the individual listed under FOR FURTHER INFORMATION CONTACT. The FAA invites interested parties to comment on the proposed policy. Comments should identify the subject of the proposed policy and be submitted to the individual identified under FOR FURTHER INFORMATION CONTACT. The FAA will consider all comments received by the closing date before issuing the final policy.

Background

The intent of this proposed policy is to provide guidance for conducting a propeller safety analysis. Although part 35 of Title 14 of the Code of Federal Regulations (14 CFR part 35) does not explicitly require a safety analysis, safety analyses are frequently conducted to support part 35 requirements, special conditions, and aircraft manufacturer certification requirements. The proposed policy would not establish new requirements.

Authority: 49 U.S.C. 106(g), 40113, 44701-44702, 44704.

Issued in Burlington, Massachusetts, on November 6, 2002.
Francis A. Favara,
Assistant Manager, Engine and Propeller Directorate, Aircraft Certification Service.

[FR Doc. 02-29662 Filed 11-20-02; 8:45 am]

BILLING CODE 4910-13-M